DEPARTMENT OF LABOR

Employment and Training Administration

Proposed Information Collection Request for Submission of Petition for Classifying Labor Surplus Areas; Comment Request

AGENCY: Employment and Training Administration, DOL.

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed extension of the collection of data contained in the procedures to petition for classification as a Labor Surplus Area (LSA) under exceptional circumstances criteria. A copy of the proposed information collection request (ICR) can be obtained by contacting the office listed below in the addressee section of this notice or at this Web site: http://www.doleta.gov/OMBCN/OMBControlNumber.cfm.

DATES: Written comments must be submitted to the office listed in the addressee section below on or before December 17, 2007.

ADDRESSES: Anthony D. Dais, Office of Workforce Investment, Employment and Training Administration, 200 Constitution Avenue, NW., Room S-4231, Washington, DC 20210. Telephone: (202) 693-2784 (This is not a toll-free number); fax (202) 693-3015; or e-mail [dais.anthony@dol.gov].

SUPPLEMENTARY INFORMATION:

I. Background

Under Executive Orders 12073 and 10582, and 20 CFR parts 651 and 654, The Secretary of Labor is required to classify LSAs and disseminate this information for the use of all Federal Agencies. This information is used by Federal agencies for various purposes including procurement decisions, food stamp waiver decisions, certain small business loan decisions, as well as other purposes determined by the agencies. The LSA list is issued annually, effective October 1 of each year, utilizing data from the Bureau of Labor Statistics. Areas meeting the criteria are classified as LSAs.

Department regulations specify that the Department can add other areas to the annual LSA listing under the exceptional circumstance criteria. Such additions are based upon information contained in petitions submitted by the State Workforce Agencies (SWAs) to the ETA's national office. These petitions contain specific economic information about an area in order to provide ample justification for adding the area to the LSA listing under the exceptional circumstances criteria. An area is eligible for classification as a LSA if it meets all of the criteria, and if the exceptional circumstance event is not temporary or seasonal. This data collection pertains only to data submitted voluntary by states exceptional circumstances petitions.

Most of the information contained the SWA LSA petitions is already available from other sources, e.g., internal reports, statistical programs, newspaper clippings, etc. The petitions are not intended to provide new (unduplicated) information but serve to bring various types of information together in a single document in order that a LSA classification determination can be made. The only information which SWAs may have to develop for use in the petition is the 12-month projections of the area's labor force and unemployment. No periodic reporting is required.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension of currently approved collection. There is no reduction in burden based on an experience rate of the approved data collection period: The ETA has not received a petition since 2003.

Agency: Employment and Training Administration

Title: Procedures for Classifying Labor Surplus Areas Exceptional Circumstances Reporting.

OMB Number: 1205-0207.

Affected Public: State Workforce Agencies.

Total Respondents: 1.

Estimated Total Burden Hours: 3.

Total Burden Cost (capital/startup): 0.

Total Burden Cost (operating/maintaining): 0.

Comments submitted in response to this comment request will be summarized and/or included in the request for Office of Management and Budget approval of the information collection request; they will also become a matter of public record.

Dated: October 11, 2007.
Gay M. Gilbert,
Administrator, Office of Workforce Investment Employment & Training Administration.

[FR Doc. E7-20463 Filed 10-16-07; 8:45 am]

BILLING CODE 4510-FN-P